DEPARTMENT OF DEFENSE

Office of the Secretary

Charter Renewal of Department of Defense Federal Advisory Committees

AGENCY: Department of Defense.

ACTION: Renewal of federal advisory committee.

SUMMARY: The Department of Defense (DoD) is publishing this notice to announce that it is renewing the charter for the Department of Defense Board of Actuaries (“the Board”).

FOR FURTHER INFORMATION CONTACT: Jim Freeman, Advisory Committee Management Officer for the Department of Defense, 703-692-5952.

SUPPLEMENTARY INFORMATION: The Board's charter is being renewed pursuant to 10 U.S.C. 183(a) and in accordance with the Federal Advisory Committee Act (FACA) of 1972 (5 U.S.C., Appendix, as amended) and 41 CFR 102-3.50(a). The Board's charter and contact information for the Board's Designated Federal Officer (DFO) can be found at http://www.facadatabase.gov/.

The Board provides the Secretary of Defense and the Deputy Secretary of Defense, through the Under Secretary for Personnel and Readiness, independent advice and recommendations on matters relating to the Department of Defense (DoD) Military Retirement Fund, the DoD Education Benefits Fund, the DoD Voluntary Separation Incentive Fund, and such other funds as the Secretary of Defense shall specify. The Board shall submit to the Secretary of Defense on an annual basis a report on the actuarial status of each of the following funds and, in doing so, shall: a. Review valuations of the DoD Military Retirement Fund, in accordance with 10 U.S.C. 1465(c), and submit to the President and Congress, not less often than once every four years, a report on the status of that Fund, including such recommendations for modifications to the funding or amortization of that Fund as the Board considers appropriate and necessary to maintain that Fund on a sound actuarial basis; b. Review valuations of the DoD Education Benefits Fund, in accordance with 10 U.S.C. 2006(e), and make recommendations to the President and Congress on such modifications to the funding or amortization of the Fund as the Board considers appropriate to maintain that Fund on a sound actuarial basis; c. Review valuations of the DoD Voluntary Separation Incentive Fund and make recommendations to the President and Congress on such modifications to the funding or amortization of that Fund as the Board considers appropriate to maintain that Fund on a sound actuarial basis; d. Review valuations of such other funds as the Secretary of Defense shall specify for purposes of 10 U.S.C. 183 and make recommendations to the President and Congress on such modifications to the funding or amortization of such funds as the Board considers appropriate to maintain such funds on a sound actuarial basis; and e. Furnish advice and opinions on matters referred to the Board by the Secretary of Defense. The Secretary of Defense shall ensure that the Board has access to such records regarding the DoD Military Retirement Fund, the DoD Education Benefits Fund, the DoD Voluntary Separation Fund, and such funds specified by the Secretary of Defense for purposes of 10 U.S.C. 183 as the Board shall require to determine the actuarial status of such funds.

The Board shall be composed of three members appointed by the Secretary of Defense or the Deputy Secretary of Defense from among qualified professional actuaries who are members of the Society of Actuaries. All members of the Board are appointed to provide advice on behalf of the Government on the basis of their best judgment without representing any particular point of view and in a manner that is free from conflict of interest. Members of the Board who are not employees of the United States are entitled to receive pay of the highest rate of basic pay under the General Schedule of subchapter III of chapter 53 of title 5 U.S.C., for each day the member is engaged in the performance of duties vested in the Board. All members are entitled to reimbursement for official Board-related travel and per diem.

The public or interested organizations may submit written statements to the Board membership about the Board's mission and functions. Written statements may be submitted at any time or in response to the stated agenda of planned meeting of the Board. All written statements shall be submitted to the DFO for the Board, and this individual will ensure that the written statements are provided to the membership for their consideration.

Dated: June 19, 2018.
Aaron T. Siegel,
Alternate OSD Federal Register Liaison Officer, Department of Defense.

[FR Doc. 2018-13411 Filed 6-21-18; 8:45 am]

BILLING CODE 5001-06-P